OFFICE OF PERSONNEL MANAGEMENT

Excepted Service

AGENCY: Office of Personnel Management (OPM).

ACTION: Notice.

SUMMARY: This notice identifies Schedule A, B, and C appointing authorities applicable to a single agency that were established or revoked from November 1, 2020 to November 30, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during November 2020.

Schedule B

No Schedule B Authorities to report during November 2020.

Schedule C

The following Schedule C appointing authorities were approved during November 2020.

Agency name | Organization name | Position title | Authorization No. | Effective date
DEPARTMENT OF COMMERCE | Office of Legislative and Intergovernmental Affairs | Confidential Assistant | DC210013 | 11/20/2020
DEPARTMENT OF DEFENSE | Office of the Under Secretary of Defense (Policy) | Special Assistant | DD210019 | 11/20/2020
| Office of the Assistant Secretary of Defense (Legislative Affairs) | Special Assistant | DD200268 | 11/24/2020
DEPARTMENT OF EDUCATION | Office of Communications and Outreach | Special Assistant | DB210006 | 11/15/2020
DEPARTMENT OF ENERGY | Office of the Assistant Secretary for Congressional and Intergovernmental Affairs | Legislative Affairs Advisor (2) Special Advisor | DE200137 DE200147 DE200148 | 11/20/2020 11/20/2020 11/20/2020
| Office of the Assistant Secretary for Nuclear Energy | Special Advisor | DE200134 | 11/20/2020
| Office of Economic Impact and Diversity | Senior Advisor for Small Business | DE210016 | 11/25/2020
| Office of Public Affairs | Copy Editor | DE200152 | 11/20/2020
| Office of Technology Transition | Senior Advisor | DE200136 | 11/20/2020
GENERAL SERVICES ADMINISTRATION | Office of the Administrator | Executive Assistant | GS210002 | 11/20/2020
DEPARTMENT OF HEALTH AND HUMAN SERVICES | Office of the Secretary | White House Liaison for Political Personnel, Boards and Commissions | DH210015 | 11/20/2020
| Office of the Commissioner | Advisor | DH210014 | 11/23/2020
DEPARTMENT OF HOMELAND SECURITY | United States Immigration and Customs Enforcement | Senior Advisor | DM200397 | 11/03/2020
| Federal Emergency Management Agency | Senior Advisor | DM210042 | 11/20/2020
DEPARTMENT OF STATE | Bureau of Counterterrorism | Special Advisor | DS210015 | 11/09/2020

The were no Schedule C appointing authorities revoked during November 2020.

Authority: 5 U.S.C. 3301 and 3302; E.O. 10577, 3 CFR, 1954-1958 Comp., p. 218.

Office of Personnel Management.
Alexys Stanley,
Regulatory Affairs Analyst.

[FR Doc. 2021-02254 Filed 2-3-21; 8:45 am]

BILLING CODE 6325-39-P